DEPARTMENT OF COMMERCE

National Oceanic and Atmospheric Administration

50 CFR Part 648

[Docket No. 121009528-2729-02]

RIN 0648-XD021

Fisheries of the Northeastern United States; Summer Flounder Fishery; Quota Transfer

AGENCY: National Marine Fisheries Service (NMFS), National Oceanic and Atmospheric Administration (NOAA), Commerce.

ACTION: Temporary rule; quota transfer.

SUMMARY: NMFS announces that the Commonwealth of Virginia and the State of North Carolina are both transferring a portion of their 2013 commercial summer flounder quotas to the Commonwealth of Massachusetts. NMFS is adjusting the quotas and announcing the revised commercial quota for each state involved.

DATES: Effective December 17, 2013, through December 31, 2013.

FOR FURTHER INFORMATION CONTACT: Carly Bari, Fishery Management Specialist, 978-281-9224.

SUPPLEMENTARY INFORMATION: Regulations governing the summer flounder fishery are in 50 CFR part 648, and require annual specification of a commercial quota that is apportioned among the coastal states from North Carolina through Maine. The process to set the annual commercial quota and the percent allocated to each state are described in § 648.100.

The final rule implementing Amendment 5 to the Summer Flounder, Scup, and Black Sea Bass Fishery Management Plan, which was published on December 17, 1993 (58 FR 65936), provided a mechanism for summer flounder quota to be transferred from one state to another. Two or more states, under mutual agreement and with the concurrence of the Administrator, Northeast Region, NMFS (Regional Administrator), can transfer or combine summer flounder commercial quota under § 648.102(c)(2). The Regional Administrator is required to consider the criteria in § 648.102(c)(2)(i) to evaluate requests for quota transfers or combinations.

Virginia has agreed to transfer 19,858 lb (9,007 kg) of its 2013 commercial quota to Massachusetts. North Carolina has agreed to transfer 19,857 lb (9,007 kg) of its 2013 commercial quota to Massachusetts. These transfers were prompted by summer flounder landings of two vessels intending to land in North Carolina and Virginia, which were granted safe harbor in Massachusetts due to mechanical failure on December 2, 2013, thereby requiring quota transfers to account for an increase in Massachusetts' landings that would have otherwise accrued against the North Carolina and Virginia quotas. The Regional Administrator has determined that the criteria set forth in § 648.102(c)(2)(i) have been met. The revised summer flounder commercial quotas for calendar year 2013 are: Virginia, 5,020,643 lb (2,277,325 kg); North Carolina, 402,773 lb (182,695 kg); and Massachusetts, 830,951 lb (376,913 kg).

Classification

This action is taken under 50 CFR part 648 and is exempt from review under Executive Order 12866.

Authority: 16 U.S.C. 1801 et seq.

Dated: December 16, 2013.
Sean F. Corson,
Acting Deputy Director, Office of Sustainable Fisheries, National Marine Fisheries Service.

[FR Doc. 2013-30218 Filed 12-17-13; 11:15 am]

BILLING CODE 3510-22-P